DEPARTMENT OF HEALTH AND HUMAN SERVICES

Food and Drug Administration

[Docket No. FDA-2023-N-0853]

Yogurt Products Deviating From Standard of Identity; Temporary Permit for Market Testing

AGENCY: Food and Drug Administration, HHS.

ACTION: Notice.

SUMMARY: The Food and Drug Administration (FDA or we) is announcing the amendment to the temporary permit issued to Chobani, LLC, (Chobani) to market test yogurt deviating from the yogurt standard of identity and lower fat yogurt products deviating from the general definition and standard of identity in 21 CFR 130.10 by using ultrafiltered nonfat milk as a basic dairy ingredient. We are also announcing an extension to this permit, which allows Chobani to continue to evaluate commercial viability of these products and to collect data on consumer acceptance of these products in support of a petition to amend the standard of identity for yogurt. We also invite other interested parties to participate in the market test.

DATES: The new expiration date of the permit will be either the effective date of a final rule amending the standard of identity for yogurt that may result from the petition or 30 days after denial of the petition.

FOR FURTHER INFORMATION CONTACT: Marjan Morravej, Nutrition Center of Excellence, Human Foods Program, Food and Drug Administration, 5001 Campus Dr., College Park, MD 20740, 240-402-2371, or Keronica Richardson, Office of Policy, Regulations, and Information, Human Foods Program, Food and Drug Administration, 5001 Campus Dr., College Park, MD 20740, 240-402-2378.

SUPPLEMENTARY INFORMATION: In the Federal Register of March 28, 2023 (88 FR 18322), we issued a notice announcing that we issued a temporary permit to Chobani, LLC, 200 Lafayette St., New York, NY 10012, to facilitate market testing of products that deviate from the requirements for the basic dairy ingredient provision of the yogurt standard of identity under 21 CFR 131.200(b). The permit allows Chobani to market test yogurt and lower fat yogurt products using ultrafiltered (UF) nonfat milk as a basic dairy ingredient through the addition of water and nonnutritive sweeteners. In the Federal Register of September 25, 2023 (88 FR 65691), we issued a notice announcing an amendment to this permit. The amendment allows the market test product to be used as ingredients, in whole or in part, in nonstandardized foods. All other conditions and terms of this permit remained the same.

In accordance with 21 CFR 130.17(f), we are amending the permit issued to Chobani to correct an error to replace the word “through” with the word “and,” clarifying that the intent of the permit is to allow Chobani to manufacture yogurt and lower fat yogurt products using UF nonfat milk as a basic dairy ingredient and using water and non-nutritive sweetener ingredients. The amendment also applies to yogurt and lower fat yogurt products used as ingredients, in whole or in part, in nonstandardized foods.

In addition, we are announcing the extension of this permit in accordance with 21 CFR 130.17(i). On June 18, 2024, Chobani submitted a request to extend the temporary permit so that it could have more time to market test the test products and gain additional consumer acceptance in support of the petition to amend the standard of identity for yogurt. On this same date, Chobani submitted a citizen petition (Docket No. FDA-2024-P-2933) requesting that we amend the standard of identity for yogurt at 21 CFR 131.200 to include UF nonfat milk as a basic dairy ingredient allowed in the manufacture of yogurt.

We find that it is in the interest of consumers to extend the permit for continued market testing of the test products to gain additional information on consumer expectations and acceptance. Therefore, under § 130.17(i), we are extending the temporary permit granted to Chobani, LLC, for temporary marketing of a maximum of 150,000,000 pounds (68,038,855.5 kilograms) of the test products annually, manufactured at the following Chobani facilities: 3450 Kimberly Rd. East, Twin Falls, ID 83301; and 669 County Rd. 25, New Berlin, NY 13411. The new expiration date of the permit will be either the effective date of a final rule amending the standard of identity for yogurt that may result from the petition or 30 days after denial of the petition. All other conditions and terms of this permit remain the same.

In addition, consistent with 21 CFR 130.17(i), we invite interested persons to participate in the market test under the conditions of Chobani's permit. Under 21 CFR 130.17(i), any person who wishes to participate in the extended market test must notify FDA of their intent to participate. The notification must indicate the products to be tested, provide the area of distribution and amount of product to be distributed, and include the labeling that will be used for the test product. We request that a draft label for each test product and each brand of product be submitted. The information panels on the labels of the test products must bear nutrition labeling in accordance with 21 CFR 101.9. Each of the ingredients used in the food must be declared on the label as required by 21 CFR part 101. Interested persons should submit their notifications to the Branch Chief, Product Evaluation Labeling Branch, Division of Food Labeling and Standards, Office of Nutrition and Food Labeling, Nutrition Center of Excellence, Human Foods Program, via FDAFoodsProgramTMP@fda.hhs.gov.

Dated: June 13, 2025.
Grace R. Graham
Deputy Commissioner for Policy, Legislation, and International Affairs.

[FR Doc. 2025-11208 Filed 6-17-25; 8:45 am]

BILLING CODE 4164-01-P